DEPARTMENT OF AGRICULTURE

Forest Service

Mendocino Resource Advisory Committee

AGENCY: Forest Service, USDA.

ACTION: Notice of meeting.

SUMMARY: The Mendocino County Resource Advisory Committee will meet August 20, 2004, (RAC) in Covelo, California. Agenda items to be covered include: (1) Approval of minutes, (2) Public Comment, (3) Sub-committees (4) Discussion/approval of projects (5) Matters before the group (discussion/action), (6) Next agenda and meeting date.

DATES: The meeting will be held on August 20, 2004, from 9 a.m. to 12 noon.

ADDRESSES: The meeting will be held at the Covelo Ranger District Office, 78150 Covelo Road, Covelo, California.

FOR FURTHER INFORMATION CONTACT: Roberta Hurt, Committee Coordinator, USDA, Mendocino National Forest, Covelo Ranger District, 78150 Covelo Road, Covelo CA 95428. (707) 983-8503; E-mail rhurt@fs.fed.us.

SUPPLEMENTARY INFORMATION: The meeting is open to the public. Persons who wish to bring matters to the attention of the Committee may file written statements with the Committee staff by August 13, 2004. Public comment will have the opportunity to address the committee at the meeting.

Dated: July 26, 2004.
Blaine Baker,
Designated Federal Official

[FR Doc. 04-17526 Filed 7-30-04; 8:45 am]

BILLING CODE 3410-11-M